DEPARTMENT OF HOMELAND SECURITY

Coast Guard

33 CFR Part 100

[COTP San Francisco Bay 07-009]

RIN 1625-AA08

Special Local Regulations for Marine Events; Opening Day on San Francisco Bay, Corinthian Yacht Club, San Francisco Bay, CA

AGENCY: Coast Guard, DHS.

ACTION: Notice of enforcement of regulation.

SUMMARY: The Coast Guard will enforce the special local regulations for the annual “Opening Day on San Francisco Bay” sponsored by the Pacific Inter-Club Yacht Association and Corinthian Yacht Club in the navigable waters of San Francisco Bay on April 29, 2007. This action is necessary to control vessel traffic and to ensure the safety of event participants and spectators during the parade of boats. During the enforcement period spectator vessels may not anchor, block, loiter, nor impede the through transit of participants or official patrol vessels within the area described during the event without permission from the Coast Guard Patrol Commander.

DATES: The regulations in 33 CFR 100.1103 will be enforced from 12 p.m. to 2 p.m. on April 29, 2007.

FOR FURTHER INFORMATION CONTACT: ENS Sheral Richardson, Waterways Management Branch, U.S. Coast Guard Sector San Francisco, at (415) 556-2950 extension 140.

SUPPLEMENTARY INFORMATION: The Coast Guard will enforce the special local regulations for the Opening Day on San Francisco Bay in 33 CFR 100.1103 on April 29, 2007 from 12 p.m. to 2 p.m. in the waters of San Francisco Bay, Crissy Fields, and near Pier 35.

The Coast Guard has granted the event sponsor a marine event permit for the waterfront festival. Under the provisions of 33 CFR 100.1103, spectator vessels may not anchor, block, loiter, nor impede the through transit of participants or official patrol vessels within the area described during the event without permission from the Coast Guard Patrol Commander. Vessels entering the “Opening Day on San Francisco Bay” regulated area shall follow the parade route established by the sponsor and be capable of maintaining an approximate speed of six (6) knots. The parade will be interrupted, as necessary, to permit the passage of commercial vessel traffic, which must cross the parade route at a no-wake speed and perpendicular to the parade route. The Coast Guard may be assisted by other Federal, State, or local law enforcement agencies in enforcing these regulations.

This notice is issued under authority of 33 CFR 100.1103 and 5 U.S.C. 552(a). In addition to this notice in the Federal Register, the maritime community will be provided advance notification of these events via a Broadcast Notice to Mariners. If the Captain of the Port determines that the regulated area need not be enforced for the full duration stated in this notice, he may use a Broadcast Notice to Mariners to grant general permission to enter the regulated area.

Dated: 12 April 2007.
W.J. Uberti,
Captain, U.S. Coast Guard, Captain of the Port, San Francisco.

[FR Doc. E7-7694 Filed 4-20-07; 8:45 am]

BILLING CODE 4910-15-P